DEPARTMENT OF THE INTERIOR

Bureau of Land Management

[LLCON020000 L14300000.FR0000; COC-73927]

Notice of Realty Action: Recreation and Public Purposes Act Classification and Conveyance of Public Land; Jackson County, CO

AGENCY: Bureau of Land Management, Interior.

ACTION: Notice of Realty Action.

SUMMARY: The Bureau of Land Management (BLM) has examined and found suitable for classification and conveyance to Jackson County, under the provisions of the Recreation and Public Purposes Act (R&PP), as amended, and the Taylor Grazing Act, approximately 127.63 acres of public land in Jackson County, Colorado. The Jackson County Commissioners propose to use the land for a public shooting range.

DATES: Interested parties may submit written comments regarding the proposed classification for conveyance until June 14, 2013.

ADDRESSES: Please submit your written comments to the Field Manager, BLM Kremmling Field Office, P.O. Box 68, Kremmling, CO 80459. Comments received in electronic form such as email or facsimile will not be considered.

FOR FURTHER INFORMATION CONTACT: Annie Sperandio, Realty Specialist, by telephone 970-724-3062, or at the address above. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: In accordance with Section 7 of the Taylor Grazing Act, (43 U.S.C. 315(f)) and Executive Order No. 6910, the following described public land in Jackson County, Colorado, has been examined and found suitable for classification and conveyance under the provisions of the R&PP Act, as amended, (43 U.S.C. 869 et seq.):

Sixth Principal Meridian

T. 9 N., R. 78 W.,

Sec. 19, lots 22, 26, 27, 29, and 31.

T. 9 N., R. 79 W.,

Sec. 24, lots 1 and 6.

The area described contains 127.63 acres in Jackson County, Colorado. A cadastral dependent resurvey was approved and accepted on July 15, 2011.

In accordance with the R&PP Act, the Jackson County Commissioners filed an R&PP application to develop the above-described land as a public shooting range. The BLM conducted a Phase I Environmental Site Assessment on December 10, 2012. No hazardous substances, petroleum products, or recognized environmental conditions were identified on the parcel; no further inquiry is needed to assess Recognized Environmental Conditions. The land is not needed for any Federal purpose. The classification is consistent with the BLM Kremmling Record of Decision and Approved Resource Management Plan dated December 19, 1984, and is in the public interest. The BLM has prepared an environmental assessment analyzing the Jackson County application and the proposed development and management plans.

Conveyance of the land would complement Jackson County's plans to have a public shooting range for its citizens and out-of-county, out-of-state visitors who come seasonally to North Park to hunt water fowl, upland small game and birds, or big game. A conveyance will be subject to the provisions of the R&PP Act, applicable regulations prescribed by the Secretary of the Interior, and the following reservations to the United States:

1. A reservation to the United States for ditches and canals constructed by the authority of the United States pursuant to the Act of August 30, 1890 (43 U.S.C. 945).

2. All minerals, together with the right to prospect for, mine and remove such deposits from the same under applicable law and such regulations as the Secretary of the Interior may prescribe, along with all necessary access rights and exit rights.

A conveyance will be subject to the following terms and conditions:

1. All valid existing rights documented on the official public land records at the time of patent issuance.

2. A right-of-way across the above-described lands for a road granted to the BLM, its successors or assigns, by right-of-way COC-57865 pursuant to the Act of October 21, 1976 (90 Stat. 2776, 43 U.S.C. 1761).

3. Any other valid rights-of-way that may exist at the time of conveyance.

4. A limited reversionary provision that states title shall revert to the United States upon a finding, after notice and opportunity for a hearing, that the patentee has not substantially developed the land in accordance with the approved plan of development 5 years after the date of patent. No portion of the land shall under any circumstances revert to the United States if any such portion had been used for solid waste disposal or for any other purpose that may result in disposal, placement, or release of any hazardous substances.

5. An indemnification clause protecting the United States from claims arising out of the patentee's use, occupancy, or operations on the land.

6. Pursuant to the requirements established by Section 120(h) of the Comprehensive Environmental Response, Compensation and Liability Act (42 U.S.C. 9620(h)), as amended by the Superfund Amendments and Reauthorization Act of 1988 (100 Stat. 1670), a notice that states the land has been examined and found to have in the past received potentially hazardous materials in the form of lead from target shooting; however, the material has been removed and a Phase I Environmental Site Assessment performed indicates that no hazardous substances remain on the subject property.

Upon publication of this notice in the Federal Register, the parcel will be segregated from all other forms of appropriation under the public land laws, including the general mining laws, except for conveyance under the R&PP Act. This notice will serve as the two-year notification to the grazing permittees in grazing allotment 07023.

Classification Comments: Interested persons may submit comments on the application of the lands as suitable for development/management as a public shooting range. Comments on the classification are restricted to whether the land is physically suited for the proposal, whether the use will maximize the future use or uses of the land, whether the use is consistent with local planning and zoning, or whether the use is consistent with State and Federal programs.

Application Comments: Interested persons may also submit comments on the application, including the notification of the BLM of any encumbrances or other claim relating to the parcel, and regarding the specific use proposed in the application and plan of development; whether the BLM followed proper administrative procedures in reaching the decision to convey the land under the R&PP Act; or any other factors not directly related to the suitability of the land for a public shooting range.

Before including your address, phone number, email address, or any other personal identifying information in your comment, you should be aware that your entire comment—including your personal identifying information—may be made publicly available at any time. While you can ask us in your comment to withhold your personal identifying information from public review, we cannot guarantee that we will be able to do so.

Any adverse comments will be reviewed by the BLM Colorado State Director. In the absence of any adverse comments, this realty action will become effective on July 1, 2013.

The land will not be available for conveyance until after the classification becomes effective.

Authority: 43 CFR 2741.5.

Helen M. Hankins,
BLM Colorado State Director.

[FR Doc. 2013-10086 Filed 4-29-13; 8:45 am]

BILLING CODE 4310-JB-P